DEPARTMENT OF THE INTERIOR

Bureau of Land Management

[13X.LLAZ956000.L14200000.BJ0000.241A]

Notice of Filing of Plats of Survey; Arizona

AGENCY: Bureau of Land Management, Interior.

ACTION: Notice of Filing of Plats of Survey; Arizona.

SUMMARY: The plats of survey of the described lands were officially filed in the Arizona State Office, Bureau of Land Management, Phoenix, Arizona, on dates indicated.

SUPPLEMENTARY INFORMATION:

The Gila and Salt River Meridian, Arizona

The plat representing the dependent resurvey of a portion of the metes-and-bounds survey of the North Maricopa Mountains Wilderness Boundary in sections 24 and 25, Township 3 South, Range 2 West, accepted February 5, 2013, and officially filed February 7, 2013, for Group 762, Arizona.

This plat was prepared at the request of the Bureau of Land Management.

The plat representing the dependent resurvey of Homestead Entry Survey 504, unsurveyed Township 4 North, Range 30 East, accepted March 19, 2013, and officially filed March 20, 2013, for Group 1108, Arizona.

This plat was prepared at the request of the United States Forest Service.

The plat representing the dependent resurvey of portions of Homestead Entry Survey 481 and portions of Tract 37, unsurveyed Township 4½ North, Range 29 East, accepted March 19, 2013, and officially filed March 20, 2013, for Group 1108, Arizona.

This plat was prepared at the request of the United States Forest Service.

The plat representing the dependent resurvey and subdivision of certain sections, Township 24 North, Range 20 East, accepted March 22, 2013, and officially filed March 26, 2013, for Group 1094, Arizona.

This plat was prepared at the request of the Bureau of Indian Affairs.

The plat representing the dependent resurvey of the West and North boundaries and the survey of the subdivisional lines and the subdivision of certain sections, Township 41 North, Range 27 East, accepted March 27, 2013, and officially filed March 29, 2013, for Group 1095, Arizona.

This plat was prepared at the request of the Bureau of Indian Affairs.

The plat representing the dependent resurvey of the West and East boundaries and the survey of the subdivisional lines, Township 42 North, Range 27 East, accepted March 27, 2013, and officially filed March 29, 2013, for Group 1095, Arizona.

This plat was prepared at the request of the Bureau of Indian Affairs.

The plat representing the dependent resurvey of a portion of the metes-and-bounds survey of the North Maricopa Mountains Wilderness Boundary in sections 24 and 25, Township 3 South, Range 2 West, accepted February 5, 2013, and officially filed February 7, 2013, for Group 762, Arizona.

This plat was prepared at the request of the Bureau of Land Management.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, One North Central Avenue, Suite 800, Phoenix, Arizona, 85004-4427. Persons who use a telecommunications device for the deaf (TDD) may call the Federal Information Relay Service (FIRS) at 1-800-877-8339 to contact the above individual during normal business hours. The FIRS is available 24 hours a day, 7 days a week, to leave a message or question with the above individual. You will receive a reply during normal business hours.

Stephen K. Hansen,
Chief Cadastral Surveyor of Arizona.

[FR Doc. 2013-08175 Filed 4-8-13; 8:45 am]

BILLING CODE 4310-32-P